DEPARTMENT OF THE INTERIOR

National Park Service

[NPS-WASO-NRNHL-23198; PPWOCRADI0, PCU00RP14.R50000]

National Register of Historic Places; Notification of Pending Nominations and Related Actions

AGENCY: National Park Service, Interior.

ACTION: Notice.

SUMMARY: The National Park Service is soliciting comments on the significance of properties nominated before March 25, 2017, for listing or related actions in the National Register of Historic Places.

DATES: Comments should be submitted by May 9, 2017.

ADDRESSES: Comments may be sent via U.S. Postal Service and all other carriers to the National Register of Historic Places, National Park Service, 1849 C St. NW., MS 7228, Washington, DC 20240.

SUPPLEMENTARY INFORMATION: The properties listed in this notice are being considered for listing or related actions in the National Register of Historic Places. Nominations for their consideration were received by the National Park Service before March 25, 2017. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

CALIFORNIA

Sacramento County

Sutter Club, 1220 9th St., Sacramento, SG100000951

COLORADO

Washington County

Farmers State Bank of Cope, 45450 Washington Ave., Cope, SG100000952

CONNECTICUT

Hartford County

Bingham, Clarence A., School, 3 North St., Bristol, SG100000953

O'Connell, Clara T., School, 122 Park St., Bristol, SG100000954

Litchfield County

Foster, Stephen and Helen, House, 417 Sharon Goshen Tpk., Cornwall, SG100000955

FLORIDA

Highlands County

Santa Rosa Hotel, 209 N. Ridgewood, Sebring, SG100000957

IDAHO

Washington County

Institute Canal Company Pump House, S. end of Fairview St. at the Galloway Canal, Weiser, SG100000958

ILLINOIS

Cook County

Lawson, Victor F., House YMCA, 30 W. Chicago Ave., Chicago, SG100000959

Flower, Lucy, Technical High School for Girls, 3545 W. Fulton Blvd., Chicago, SG100000960

Mark Twain Hotel, (Residential Hotels in Chicago, 1880-1930 MPS), 111 W. Division St., Chicago, MP100000961

Johnson County

Bridges, John, Tavern and Store Site, (Cherokee Trail of Tears MPS), Address Restricted, Buncombe vicinity, MP100000962

Ogle County

Watson, David and Julia, House, 103 N. Maple Ave., Polo, SG100000963

Sangamon County

Compton, Dr. Charles, House, 1303 S. Wiggins, Springfield, SG100000964

Union County

Campground Church and Cemetery Site, (Cherokee Trail of Tears MPS), 50 Tunnel Ln., Anna, MP100000965

IOWA

Linn County

Cedar Rapids Milk Condensing Company, (Commercial & Industrial Development of Cedar Rapids MPS), 525 Valor Way SW., Cedar Rapids, MP100000966

Muscatine County

Nicolaus, Henry E. and Ella M. (Knott), House, 319 4th St., W., Wilton, SG100000968

Tama County

First United Brethren Church, 201 E. High St., Toledo, SG100000969

MASSACHUSETTS

Middlesex County

Sandy Pond School, 150 Sandy Pond Rd., Ayer, SG100000971

MICHIGAN

Oakland County

Paint Creek Cider Mill, 4480 Orion Rd., Oakland Township, SG100000972

OHIO

Summit County

Peninsula Village Historic District (Boundary Increase), Roughly bounded by Stine & Dell Rds., Emerson St., Boston Run & Deep Lock Quarry, Metro Park, Peninsula, BC100000974

PENNSYLVANIA

Philadelphia County

Mecky, A., Company Building, 1705 W. Allegheny Ave., Philadelphia, SG100000977

RHODE ISLAND

Providence County

American Supply Company Building, 1420 Broad St., Central Falls, SG100000978

TENNESSEE

Knox County

Kern's Bakery, 2110 Chapman Hwy., Knoxville, SG100000979

Shelby County

Charles, Davis, House, 1291 Winchester Rd., Collierville, SG100000980

VIRGINIA

Henrico County

Markel Building, The, 5310 Markel Rd., Richmond vicinity, SG100000984

New Kent County

Cedar Lane, 9040 New Kent Hwy., New Kent (Courthouse) vicinity, SG100000985

Cumberland, 9007 Cumberland Rd., New Kent (Courthouse) vicinity, SG100000986

Richmond Independent City

Higgins Doctors Office Building, 3540 Floyd Ave., Richmond (Independent City), SG100000987

WASHINGTON

Jefferson County

F/V WESTERN FLYER (purse seiner), 919 Haines Pl., Port Townsend, SG100000990

King County

Lake Washington Boulevard, (Seattle's Olmstead Parks and Boulevards MPS), Connecting Montlake Blvd. to Seward Park through the Washington Park Arboretum, Seattle, MP100000989

Snohomish County

Fratt, Charles and Idalia, House, 1725 Grand Ave., Everett, SG100000991

Nominations submitted by Federal Preservation Officers:

DISTRICT OF COLUMBIA

District of Columbia

Federal Office Building No. 6, 400 Maryland Ave. SW., Washington, SG100000956

The State Historic Preservation Officer reviewed the nomination and responded to the Federal Preservation Officer within 45 days of receipt of the nomination and supports listing the property in the National Register of Historic Places.

A request for removal has been made for the following resource(s):

PENNSYLVANIA

Franklin County

Eyster, J. Allison, Farmstead, Guilford Spring Rd., Chambersburg vicinity, OT65008819

TEXAS

Taylor County

House at 1127 Ash Street, (Abilene MPS), 1127 Ash St., Abilene, OT92000196

Radford, James M., Grocery Company Warehouse, (Abilene MPS), 101 Oak St., Abilene, OT92000223

A request to move has been received for the following resource(s):

IOWA

Winneshiek County

Ten Mile Creek Bridge, (Highway Bridges of Iowa MPS), Happy Hollow Rd. over Ten Mile Cr., Decorah vicinity, MV98000466

An additional documentation has been received for the following resource(s):

IOWA

Mitchell County

Cedar Valley Seminary, N. 6th and Mechanic Sts., Osage, AD77000541

PENNSYLVANIA

Lehigh County

Ehrenhardt, Jacob Jr., House, 55 S. Keystone Ave., Emmanus, AD03001123

VIRGINIA

Fairfax County

Floris Historic District, Bounded by Centreville Rd, W Ox Rd, Monroe St, and Frying Pan Branch, Herndon vicinity, AD10000543

Authority: 60.13 of 36 CFR part 60

Dated: March 31, 2017.
J. Paul Loether,
Chief, National Register of Historic Places/National Historic Landmarks Program.

[FR Doc. 2017-08231 Filed 4-21-17; 8:45 am]

BILLING CODE 4312-52-P